FEDERAL COMMUNICATIONS COMMISSION

47 CFR Part 4

[PS Docket No. 11-82; FCC 12-22]

Extension of the Commission's Rules Regarding Outage Reporting to Interconnected Voice Over Internet Protocol Service Providers and Broadband Internet Service Providers

AGENCY: Federal Communications Commission.

ACTION: Final rule; announcement of effective date.

SUMMARY: In this document, the Commission announces that the Office of Management and Budget (OMB) has approved, for a period that expires on September 30, 2015, the information collection associated with the Commission's rules in the Extension of the Commission's Rules Regarding Outage Reporting to Interconnected Voice Over Internet Protocol Service Providers and Broadband Internet Service Providers Report and Order (Order). This notice is consistent with the Order, which stated that the Commission would publish a document in the Federal Register announcing the effective date of those rules.

DATES: The amendments to 47 CFR 4.3, 4.7, and 4.9 published at 77 FR 25088, April 27, 2012, are effective December 16, 2012.

FOR FURTHER INFORMATION CONTACT: Gregory F. Intoccia, Cybersecurity and Communications Reliability Division, Public Safety and Homeland Security Bureau, at (202) 418-1470, or email: gregory.intoccia@fcc.gov.

SUPPLEMENTARY INFORMATION: This document announces that, on September 17, 2012, OMB approved, for a period that expires on September 30, 2015, the information collection requirements contained in the Commission's Order, FCC 12-22, regarding Interconnected Voice over Internet Protocol (VoIP) outage reporting rules, published at 77 FR, 25088, April 27, 2012.

Synopsis

As required by the Paperwork Reduction Act (PRA) of 1995 (44 U.S.C. 3507), the Commission is notifying the public that it received OMB approval on September 17, 2012, for the information collection requirements contained in the modifications to the Commission's rules in 47 CFR Part 4. OMB approved the Order under the PRA Submission, Form OMB 83i, dated July 24, 2012, titled Section 4.1 and 4.2 and Part 4 of the Commission's rules Concerning Disruptions to Communications. Under 5 CFR 1320, an agency may not conduct or sponsor a collection of information unless it displays a currently valid OMB control number. The OMB control number is 3060-0484. The foregoing notice is required by the Paperwork Reduction Act of 1995, Pub. L. 104-13, October 1, 1995, and 44 U.S.C. 3507.

The total annual reporting burdens and costs for the respondents are as follows:

OMB Control Number: 3060-0484.

OMB Approval Date: September 17, 2012.

Expiration Date: September 30, 2015.

Title: Extension of the Commission's Rules Regarding Outage Reporting to Interconnected Voice over Internet Protocol Service Providers and Broadband Internet Service Providers

Form Number: N/A.

Estimated Time per Response: 1.25 to 2 hours.

Total Annual Burden: 29,647 hours.

Total Annual Cost: N/A.

Obligation to Respond: The number of respondents/responses is 118 respondents 15,444 responses. The statutory authority for this information collection is contained in 47 U.S.C. 151, 152, 154(i)-(k), 154(o), 218, 219, 230, 256, 301, 302(a), 303(f), 303(g), 303(j), 303(r), 403, 615a-l, 621(b)(3), 621(d), 1302(a) and 1302(b) of the Communications Act of 1934, as amended; and section 1704 of the Omnibus Consolidated and Emergency Supplemental Appropriations Act of 1998, 44 U.S.C. 3504.

Nature and Extent of Confidentiality: Outage reports filed pursuant to part 4 of the Commission's rules are presumed confidential. The information in the filings may be shared with the Department of Homeland Security only under appropriate confidential disclosure provisions. Other persons seeking disclosure must follow the procedures delineated in 47 CFR 0.457 and 0.459 of the Commission's rules for requests for and disclosure of information.

Privacy Act: No impact(s).

Needs and Uses: The Commission extended mandatory outage reporting rules to facilities-based and non-facilities-based interconnected VoIP service providers and applied the current Part 4 definition of “outage” to outages of interconnected VoIP service, covering the complete loss of service and/or connectivity to customers at least 30 minutes duration that potentially affects at least 900,000 user minutes of interconnected VoIP services and results in complete loss of service; or potentially affects any special offices and facilities such as a 911 facility. Collecting data on significant outages of interconnected VoIP services will help the Commission to monitor compliance with the statutory 911 obligations of interconnected VoIP service providers, as well as help ensure the Nation's current and future 911 systems are as reliable and resilient as possible both on a day-to-day basis and in times of a major emergency. The Commission recognizes that consumers are increasingly relying on Internet Protocol (IP)-based technologies as substitutes for communications services provided by older communications technologies, and increasingly use interconnected VoIP services in lieu of traditional telephone service. As of December 31, 2010, 31 percent of the more than 87 million residential telephone subscriptions in the United States were users of interconnected VoIP providers—an increase of 21 percent (from 22.4 million to 27.1 million) from the end of 2009. Additionally, the Commission estimates that approximately 31 percent of residential wireline 911 calls are made using VoIP service. The information collected is administered by the FCC's Public Safety and Homeland Security Bureau (PSHSB) which maintains an Internet Web site portal for the electronic submission of the required outage reports. In addition, provision is made for the submission of required data by other than electronic means in cases where electronic submission is not feasible.

First, Respondents must submit electronically via the Network Outage Reporting System (NORS) (See http://transition.fcc.gov/pshsb/services/cip/nors/nors.html) notification to the Federal Communications Commission within: (a) 240 minutes of discovering that they have experienced on any facilities that they own, operate, lease, or otherwise utilize, an outage of at least 30 minutes duration that potentially affects a 9-1-1 special facility, in which case they also shall notify, as soon as possible by telephone or other electronic means, any official who has been designated by the management of the affected 9-1-1 facility as the provider's contact person for communications outages at that facility; in this case, the provider shall convey to that person all available information that may be useful to the management of the affected facility in mitigating the effects of the outage on efforts to communicate with that facility; or (b) 24 hours of discovering that these providers have experienced on any facilities that they own, operate, lease, or otherwise utilize, an outage of at least 30 minutes duration that: Potentially affects at least 900,000 user minutes of interconnected VoIP service and results in complete loss of service; or potentially affects any special offices and facilities. Second, Respondents must submit electronically via NORS a Final Communications Outage Report to the Commission not later than thirty days after discovering the outage.

Federal Communications Commission.
Marlene H. Dortch,
Secretary.

[FR Doc. 2012-25201 Filed 10-16-12; 8:45 am]

BILLING CODE 6712-01-P